DEPARTMENT OF COMMERCE

National Oceanic and Atmospheric Administration

RIN 0648-XA494

Endangered Species; File No. 10027

AGENCY: National Marine Fisheries Service (NMFS), National Oceanic and Atmospheric Administration (NOAA), Commerce.

ACTION: Notice; receipt of application for a permit modification.

SUMMARY: Notice is hereby given that the Center for Biodiversity and Conservation, American Museum of Natural History (Responsible Party: Eleanor Sterling, PhD), Central Park West at 79th Street, New York, New York 10024, has requested a modification to scientific research Permit No. 10027.

DATES: Written, telefaxed, or e-mail comments must be received on or before July 15, 2011.

ADDRESSES: The modification request and related documents are available for review by selecting “Records Open for Public Comment” from the Features box on the Applications and Permits for Protected Species (APPS) home page, https://apps.nmfs.noaa.gov/, and then selecting File No. 10027-05 from the list of available applications. These documents are also available upon written request or by appointment in the following offices:

Permits, Conservation and Education Division, Office of Protected Resources, NMFS, 1315 East-West Highway, Room 13705, Silver Spring, MD 20910; phone (301) 713-2289; fax (301) 713-0376; and

Pacific Islands Region, NMFS, 1601 Kapiolani Blvd., Rm 1110, Honolulu, HI 96814-4700; phone (808) 944-2200; fax (808) 973-2941.

Written comments or requests for a public hearing on this request should be submitted to the Chief, Permits, Conservation and Education Division, at the address listed above. Comments may also be submitted by facsimile to (301) 713-0376, or by e-mail to NMFS.Pr1Comments@noaa.gov. Please include the File No. in the subject line of the e-mail comment.

Those individuals requesting a hearing should set forth the specific reasons why a hearing on this particular modification request would be appropriate.

FOR FURTHER INFORMATION CONTACT: Amy Hapeman or Kristy Beard, (301) 713-2289.

SUPPLEMENTARY INFORMATION: The subject modification to Permit No. 10027, issued on July 30, 2008 (73 FR 44224), is requested under the authority of the Endangered Species Act of 1973, as amended (16 U.S.C. 1531 et seq.) and the regulations governing the taking, importing, and exporting of endangered and threatened species (50 CFR 222-226).

The permit currently authorizes the permit holder to study the population biology and connectivity of green (Chelonia mydas) and hawksbill (Eretmochelys imbricata) sea turtles focusing on distribution and abundance, ecology, health, and threats to sea turtles at the Palmyra Atoll in the Pacific Ocean. The permit holder requests a modification to their existing permit to increase the number of green sea turtles taken annually from 100 to 250 turtles per year. Of the total 250 green sea turtles, researchers request to increase the number tagged with sonic transmitters from 30 to 40 turtles annually. The modification is needed to accommodate higher than anticipated capture rates and an increase in capture efforts. These data will help determine if temporal, stage-specific, or sex-specific movement patterns exist for the population of sea turtles at Palmyra. The modified permit would expire July 31, 2013.

Dated: June 10, 2011.
Tammy C. Adams,
Acting Chief, Permits, Conservation and Education Division, Office of Protected Resources, National Marine Fisheries Service.

[FR Doc. 2011-14857 Filed 6-14-11; 8:45 am]

BILLING CODE 3510-22-P